FEDERAL HOUSING FINANCE BOARD

Announcing an Open Meeting of the Board; Sunshine Act Notice

Time and Date: 2 p.m., Wednesday, February 28, 2001.

Place: Board Room, Second Floor, Federal Housing Finance Board, 1777 F Street, N.W., Washington, D.C. 20006.

Status: The entire meeting will be open to the public.

Matters to be Considered During Portions Open to the Public:

• Interim Final Rule: Amendments to Bank Meeting Regulation

• Updated and Revised: Federal Housing Finance Board's Strategic Plan 2000-2005

• Notice of Proposed Rulemaking—Technical Amendments: Affordable Housing Program

• Advance Notice of Proposed Rulemaking on Capital

• Advance Notice of Proposed Rulemaking: Multi-District Member Operations

Contact Person for More Information: Elaine L. Baker, Secretary to the Board, (202) 408-2837.

James L. Bothwell,
Managing Director.

[FR Doc. 01-3995 Filed 2-13-01; 1:22 pm]

BILLING CODE 6725-01-P